JUDICIAL CONFERENCE OF THE UNITED STATES

Meeting of the Judicial Conference Advisory Committee on Rules of Bankruptcy Procedure

AGENCY: Judicial Conference of the United States Advisory Committee on Rules of Bankruptcy Procedure.

ACTION: Notice of Open Meeting.

SUMMARY: The Advisory Committee on Rules of Bankruptcy Procedure will hold a two-day meeting. The meeting will be open to public observation but not participation.

DATES: September 26-27, 2011.

Time: 8:30 a.m. to 5 p.m.

ADDRESSES: Sofitel Hotel, Sofitel Chicago Water Tower, 20 East Chestnut Street, Chicago, IL 60611.

FOR FURTHER INFORMATION CONTACT: Peter G. McCabe, Secretary, Rules Committee Support Office, Administrative Office of the United States Courts, Washington, DC 20544, telephone (202) 502-1820.

Dated: May 5, 2011.
Gale B. Mitchell,
Rules Committee Support Office.

[FR Doc. 2011-11383 Filed 5-9-11; 8:45 am]

BILLING CODE 2210-55-P